DEPARTMENT OF ENERGY

Federal Energy Regulatory Commission

[Docket No. EC01-76-000, et al.]

Duke Energy Audrain, LLC, et al.; Electric Rate and Corporate Regulation Filings

March 7, 2001.

Take notice that the following filings have been made with the Commission:

1. Duke Energy Audrain, LLC and NRG Energy, Inc.

[Docket No. EC01-76-000]

Take notice that on March 1, 2001, Duke Energy Audrain, LLC (Duke Audrain) and NRG Energy, Inc. (NRG) (the Applicants) filed with the Federal Energy Regulatory Commission an application pursuant to section 203 of the Federal Power Act for authorization of the transfer of Duke Energy North America, LLC's (Duke Energy North America) 100 percent membership interests in Duke Audrain to NRG (the Transaction). NRG will pay cash for the membership interests. Duke Audrain is developing an approximately 640 MW natural gas-fired, electric generating facility located in Audrain County, Missouri (the Facility). Duke Audrain will operate the facility. The Transaction may constitute the indirect disposition of jurisdictional facilities associated with the Facility (e.g., market-based rate schedules of Duke Audrain and the sales agreements entered into thereunder, limited transmission interconnection facilities and jurisdictional books and records). Applicants request confidential treatment for the documents contained in Exhibit I.

Comment date: April 30, 2001, in accordance with Standard Paragraph E at the end of this notice.

2. FirstEnergy Generation Corp.

[Docket No. EG01-95-000]

Take notice that on February 26, 2001, FirstEnergy Generation Corp. filed an amendment to its December 29, 2000 application for EWG status in the above-referenced docket.

Comment date: March 28, 2001, in accordance with Standard Paragraph E at the end of this notice. The Commission will limit its consideration of comments to those that concern the adequacy or accuracy of the application.

3. Caledonia Power, LLC

[Docket No. EL01-44-000]

Take notice that on March 2, 2001, Caledonia Power, LLC (Caledonia) filed a request for waiver of requirements under Order Nos. 888 and 889, with respect to certain interconnection facilities associated with Caledonia's generating facility to be located near Caledonia, Mississippi.

Comment date: April 2, 2001, in accordance with Standard Paragraph E at the end of this notice.

4. Consolidated Edison Company of New York, Inc.

[Docket Nos. EL01-45-000 and ER01-1385-000]

Take notice that on March 1, 2001, Consolidated Edison Company of New York, Inc. (Con Edison), tendered for filing a Request To Revise Localized Market Power Mitigation Measures.

Con Edison requests an effective date of May 1, 2001.

Comment date: March 22, 2001, in accordance with Standard Paragraph E at the end of this notice.

5. New York Independent System Operator, Inc.

[Docket Nos. ER97-1523-061, OA97-470-056, and ER97-4234-054]

Take notice that on March 2, 2001, the New York Independent System Operator, Inc. (NYISO) filed a report on its first year of operations, as ordered by the Commission in a January 27, 1999 Order in the above-captioned dockets, Central Hudson Gas & Electric Corp. et al., 86 FERC ¶ 61,062 (1999).

The NYISO has served a copy of this filing upon all parties in the above-captioned dockets, as well as the New York Public Service Commission.

Comment date: March 23, 2001, in accordance with Standard Paragraph E at the end of this notice.

6. New England Power Company

[Docket No. ER01-465-001]

Take notice that on March 2, 2001, in compliance with the Commission's letter order dated January 5, 2001 and Order No. 614, New England Power Company (NEP), as successor to Montaup Electric Company, submitted for filing complete revised:

(1) Service Agreement No. 10 (Newport Electric Corporation) under Montaup Electric Company, FERC Electric Tariff, First Revised Volume No. 1; and

(2) Service Agreement No. 11 (Blackstone Valley Electric Company) under Montaup Electric Company, FERC Electric Tariff, First Revised Volume No. 1.

NEP states that a copy of this filing has been served upon the service list for Docket No. ER99-1813-000, including the Rhode Island Public Utilities Commission and the Rhode Island Division of Public Utilities and Carriers.

Comment date: March 23, 2001, in accordance with Standard Paragraph E at the end of this notice.

7. California Independent System Operator Corporation

[Docket No. ER01-889-003]

Take notice that on March 1, 2001, the California Independent System Operator Corporation (ISO) tendered for filing changes to the ISO Tariff to comply with the Commission's order in California Independent System Operator Corporation, 94 FERC ¶ 61,132 (2001). These changes include a revision to Section 2.2.3.2 of the ISO Tariff to limit the temporary waiver of the scheduling limitation under Section 2.2.7.3 of the ISO Tariff. The ISO states that Section 2.2.3.2 is also revised to eliminate the March 3, 2001, expiration of the waiver and to eliminate the requirement for daily notice. To the extent that the Commission does not believe these matters are appropriate for the compliance filing, the ISO requests that the Commission deem these provisions a filing pursuant to Section 205 of the Federal Power Act, 16 U.S.C. § 824d.

The ISO states that this filing has been served upon all parties in this proceeding.

Comment date: March 22, 2001, in accordance with Standard Paragraph E at the end of this notice.

8. Entergy Services, Inc.

[Docket No. ER01-982-001]

Take notice that on March 2, 2001, Entergy Services, Inc. (Entergy), on behalf of Entergy Gulf States, Inc., and Entergy Arkansas, Inc., submitted for filing an amendment to its January 17, 2001 filing in Docket No. ER01-982-000, which consisted of Entergy's filing of Generator Imbalance Agreements between Entergy Gulf States, Inc., and Entergy Services, and between Entergy Arkansas, Inc., and Entergy Power, Inc. Entergy states that the amendment to the January 17 filing serves to accurately conform that filing with the Commission's Order No. 614, Designation of Electric Rate Schedule Sheets, 90 FERC ¶ 61,352 (2000).

Comment date: March 23, 2001, in accordance with Standard Paragraph E at the end of this notice.

9. Cinergy Capital & Trading, Inc.

[Docket No. ER01-1337-001]

Take notice that on March 1, 2001, Cinergy Capital & Trading, Inc. tendered for filing an amendment to its Application to Amend Market-Based Rate Schedule and Notice of Change in Status filed on February 27, 2001.

Comment date: March 22, 2001, in accordance with Standard Paragraph E at the end of this notice.

10. Jersey Central Power & Light Company, Metropolitan Edison Company, Pennsylvania Electric Company

[Docket No. ER01-1370-000]

Take notice that on March 2, 2001, Jersey Central Power & Light Company, Metropolitan Edison Company and Pennsylvania Electric Company (individually doing business as GPU Energy) submitted for filing a Notice of Cancellation of the Service Agreement between GPU Service Corporation and Heartland Energy Services, Inc. (now Cargill-Alliant, LLC), FERC Electric Tariff, Original Volume No. 1, Service Agreement No.17.

GPU Energy requests that cancellation be effective the 1st day of May 2001.

Comment date: March 23, 2001, in accordance with Standard Paragraph E at the end of this notice.

11. PJM Interconnection, L.L.C.

[Docket No. ER01-1372-000]

Take notice that on March 2, 2001, PJM Interconnection, L.L.C. (PJM) tendered for filing amendments to Articles 8 and 17 of the Amended and Restated Operating Agreement of PJM Interconnection, L.L.C. (Operating Agreement) modifying the Operating Agreement to allow state offices of consumer advocates that so elect, to have full voting rights in the PJM Members Committee.

Copies of this filing were served upon all PJM members, each state electric utility regulatory commission and each State Consumer Advocate in the PJM control area.

Comment date: March 23, 2001, in accordance with Standard Paragraph E at the end of this notice.

12. PJM Interconnection, L.L.C.

[Docket No. ER01-1373-000]

Take notice that on March 2, 2001, PJM Interconnection, L.L.C. (PJM) tendered for filing an amendment to section 7.5.1 of the Amended and Restated Operating Agreement of PJM Interconnection, L.L.C. (Operating Agreement). The proposed amendment modifies the Operating Agreement to increase the number of PJM Members Committee representatives on the PJM Finance Committee from two to three.

Copies of this filing were served upon all PJM members and each state electric utility regulatory commission in the PJM control area.

Comment date: March 23, 2001, in accordance with Standard Paragraph E at the end of this notice.

13. Idaho Power Company

[Docket No. ER01-1374-000]

Take notice that on March 2, 2001, Idaho Power Company (IPC) tendered for filing with the Federal Energy Regulatory Commission a Service Agreement for Firm and Non-Firm Point-to-Point Transmission Service between Idaho Power Company and Eugene Water & Electric Board.

Comment date: March 23, 2001, in accordance with Standard Paragraph E at the end of this notice.

14. PSI Energy, Inc.

[Docket No. ER01-1375-000]

Take notice that on March 2, 2001, PSI Energy, Inc. tendered for filing its Power Coordination Agreement with Indiana Municipal Power Agency redesignated according to Order No. 614. This filing is being made in conjunction with the filing of revised pages to this agreement as part of a settlement in Docket No. ER00-188.

This filing has been served on the Indiana Municipal Power Agency.

Comment date: March 23, 2001, in accordance with Standard Paragraph E at the end of this notice.

15. Tampa Electric Company

[Docket No. ER01-1377-000]

Take notice that on March 2, 2001, Tampa Electric Company (Tampa Electric) tendered for filing a service agreement with the City of Lake Worth, Florida (Lake Worth) under Tampa Electric's market-based sales tariff.

Tampa Electric proposes that the service agreement be made effective on February 7, 2001.

Copies of the filing have been served on Lake Worth and the Florida Public Service Commission.

Comment date: March 23, 2001, in accordance with Standard Paragraph E at the end of this notice.

16. Tampa Electric Company

[Docket No. ER01-1378-000]

Take notice that on March 2, 2001, Tampa Electric Company (Tampa Electric) tendered for filing service agreements with Carolina Power & Light Company (CP&L) for firm point-to-point transmission service and non-firm point-to-point transmission service under Tampa Electric's open access transmission tariff.

Tampa Electric proposes an effective date of March 2, 2001, for the tendered service agreements..

Copies of the filing have been served on CP&L and the Florida Public Service Commission.

Comment date: March 23, 2001, in accordance with Standard Paragraph E at the end of this notice.

17. The Detroit Edison Company

[Docket No. ER01-1379-000]

Take notice that on March 2, 2001, The Detroit Edison Company (Detroit Edison) tendered for filing a Service Agreement for wholesale power sales transactions (the Service Agreements) under Detroit Edison's Wholesale Power Sales Tariff (WPS-2), FERC Electric Tariff No. 3 (the WPS-2 Tariff) between Detroit Edison and Powerex Corp.

Comment date: March 23, 2001, in accordance with Standard Paragraph E at the end of this notice.

18. ISO New England Inc.

[Docket No. ER01-1382-000]

Take notice that on March 2, 2001, ISO New England Inc. (ISO) made a filing under Section 205 of the Federal Power Act of its Capital Funding Tariff. The ISO requests that a Capital Funding Tariff be allowed to go into effect upon issuance of a final Commission order.

Copies of the transmittal letter were served upon all Participants in the New England Power Pool (NEPOOL), as well as on the governors and utility regulatory agencies of the six New England States, and NECPUC. Participants were also served with the entire filing electronically. The entire filing is posted on the ISO's website (www.iso-ne.com).

Comment date: March 23, 2001, in accordance with Standard Paragraph E at the end of this notice.

19. Caledonia Generating, LLC

[Docket No. ER01-1383-000]

Take notice that on March 2, 2001, Caledonia Generating, LLC (Caledonia), an electric power developer organized under the laws of Delaware, petitioned the Commission for acceptance of its market-based rate tariff, waiver of certain requirements under Subparts B and C of Part 35 of the Commission's regulations, and preapproval of transactions under Part 34 of the regulations. Caledonia is developing an 813 MW (summer rated) gas fired generating facility in Caledonia, Mississippi.

Comment date: March 23, 2001, in accordance with Standard Paragraph E at the end of this notice.

20. Entergy Services, Inc.

[Docket No. ER01-1384-000]

Take notice that on March 2, 2001, Entergy Services, Inc., on behalf of Entergy Gulf States, Inc., tendered for filing a modified and redesignated Interconnection and Operating Agreement with SRW Cogeneration, L.P. (SRW Cogen), and a Generator Imbalance Agreement with SRW Cogen.

Comment date: March 23, 2001, in accordance with Standard Paragraph E at the end of this notice.

21. Jersey Central Power & Light Company, Metropolitan Edison Company, Pennsylvania Electric Company

[Docket No. ER01-1386-000]

Take notice that on March 2, 2001, Jersey Central Power & Light Company, Metropolitan Edison Company and Pennsylvania Electric Company (individually doing business as GPU Energy) submitted for filing a Notice of Cancellation of the Service Agreement between GPU Service, Inc. and Illinova Power Marketing, Inc. (now Dynegy Power Marketing, Inc.), FERC Electric Tariff, Original Volume No. 1, Service Agreement No. 62.

GPU Energy requests that cancellation be effective the 1st day of May 2001.

Comment date: March 23, 2001, in accordance with Standard Paragraph E at the end of this notice.

22. Jersey Central Power & Light Company, Metropolitan Edison Company, Pennsylvania Electric Company

[Docket No. ER01-1387-000]

Take notice that on March 2, 2001, Jersey Central Power & Light Company, Metropolitan Edison Company and Pennsylvania Electric Company (individually doing business as GPU Energy) submitted for filing a Notice of Cancellation of the Service Agreement between GPU Service Corporation and Consolidated Edison Company of New York, Inc., FERC Electric Tariff, Original Volume No. 1, Service Agreement No. 4.

GPU Energy requests that cancellation be effective the 1st day of May 2001.

Comment date: March 23, 2001, in accordance with Standard Paragraph E at the end of this notice.

23. Jersey Central Power & Light Company, Metropolitan Edison Company, Pennsylvania Electric Company

[Docket No. ER01-1388-000]

Take notice that on March 2, 2001, Jersey Central Power & Light Company, Metropolitan Edison Company and Pennsylvania Electric Company (individually doing business as GPU Energy) submitted for filing a Notice of Cancellation of the Service Agreement between GPU Energy and Monongahela Power Company, The Potomac Edison Company and West Penn Power Company (collectively, Allegheny Power), FERC Electric Tariff, Original Volume No. 1, Service Agreement No. 81.

GPU Energy requests that cancellation be effective the 1st day of May 2001.

Comment date: March 23, 2001, in accordance with Standard Paragraph E at the end of this notice.

24. Public Service Company of New Mexico

[Docket No. ER01-1389-000]

Take notice that on March 2, 2001, Public Service Company of New Mexico (PNM) filed a Notice of Cancellation with the Federal Energy Regulatory Commission with respect to PNM Rate Schedule FERC No. 73. By its terms, the Transmission Service Agreement Between Public Service Company of New Mexico and Salt River Project Agricultural Improvement and Power District, on file as PNM Rate Schedule FERC No. 73, is to terminate on April 30, 2001.

Consistent with the agreement, PNM requests that cancellation of the related rate schedule become effective on April 30, 2001.

A copy of the filing has been served upon Salt River Project Agricultural Improvement and Power District, San Diego Gas & Electric Company and an informational copy was provided to the New Mexico Public Regulation Commission. The Notice of Cancellation has been posted and is available for public inspection during normal business hours at PNM's offices in Albuquerque, New Mexico.

Comment date: March 23, 2001, in accordance with Standard Paragraph E at the end of this notice.

25. Public Service Company of New Mexico

[Docket No. ER01-1390-000]

Take notice that on March 2, 2001, Public Service Company of New Mexico (PNM) submitted for filing two executed service agreements for Long-Term Firm Point-to-Point Transmission Service with Salt River Project Agricultural Improvement and Power District, Inc. (SRP) under the terms of PNM's Open Access Transmission Tariff. The Agreements, dated January 30, 2001, provide service of 119 MW of reserved capacity from the Palo Verde 500 kV Switchyard (Point of Receipt) to the Westwing 500 kV Switching Station (Point of Delivery) for two consecutive years (through December 31, 2002), beginning on February 1, 2001. PNM's filing is available for public inspection at its offices in Albuquerque, New Mexico.

Copies of the filing have been sent to SRP and to the New Mexico Public Regulation Commission.

Comment date: March 23, 2001, in accordance with Standard Paragraph E at the end of this notice.

26. Madison Gas and Electric Company

[Docket No. ER01-1391-000]

Take notice that on March 2, 2001, Madison Gas and Electric Company (MGE) tendered for filing with the Commission a Notice of Cancellation of MGE's Rate Schedule FERC No. 14. MGE seeks to cancel Rate Schedule FERC No. 14 in its entirety, including all supplements. This would cancel MGE's Interchange Agreement with Wisconsin Electric Power Company, effective January 1, 2001, and is occasioned by the recent formation and commencement of operations of the American Transmission Company LLC.

Copies of this filing have been served on Wisconsin Electric Power Company, the American Transmission Company LLC and the Public Service Commission of Wisconsin.

Comment date: March 23, 2001, in accordance with Standard Paragraph E at the end of this notice.

27. Portland General Electric Company

[Docket No. ER01-1392-000]

Take notice that on March 2, 2001 , Portland General Electric Company (PGE) tendered for filing under PGE's Final Rule pro forma tariff (FERC Electric Tariff First Revised Volume No. 8, Docket No. OA96-137-000), a letter of agreement for Energy Imbalance Service with Bonneville Power Administration.

A copy of this filing was caused to be served upon Bonneville Power Administration, as noted in the filing letter.

Comment date: March 23, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-6278 Filed 3-13-01; 8:45 am]

BILLING CODE 6717-01-P